DEPARTMENT OF HEALTH AND HUMAN SERVICES

Centers for Disease Control and Prevention

[60 Day-14-14AOO]

Proposed Data Collections Submitted for Public Comment and Recommendations

The Centers for Disease Control and Prevention (CDC), as part of its continuing effort to reduce public burden, invites the general public and other Federal agencies to take this opportunity to comment on proposed and/or continuing information collections, as required by the Paperwork Reduction Act of 1995. To request more information on the below proposed project or to obtain a copy of the information collection plan and instruments, call 404-639-7570 or send comments to Leroy Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

Monitoring and Reporting System for the Division of Community Health's Cooperative Agreement Programs—New—National Center for Chronic Disease Prevention and Health Promotion (NCCDPHP), Centers for Disease Control and Prevention (CDC).

Background and Brief Description

The Centers for Disease Control and Prevention (CDC) established the Division of Community Health (DCH) to support multi-sectorial, community-based programs that promote healthy living. In 2014, DCH announced three new cooperative agreement programs authorized by the Public Health Service Act and the Prevention and Public Health Fund of the Affordable Care Act (Funding Opportunity Announcement (FOA) DP14-1417, FOA DP14-1418, and FOA DP14-1419PPHF14). The new programs are designed to address chronic diseases and risk factors for chronic diseases, including physical inactivity, poor diet, obesity, and tobacco use. The programs will provide support for implementation of broad, evidence- and practice-based policy and environmental improvements in large and small cities, urban rural areas, tribes, multi-sectorial community coalitions, and racial and ethnic communities experiencing chronic disease disparities. DCH programs align with the National Prevention Strategy and “Healthy People 2020” focus areas.

Awards under the new FOAs will be announced in the Fall of 2014. Awardees are expected to include a mix of approximately 57 state, local, and tribal government entities, and approximately 51 private sector entities including national organizations. CDC will seek OMB approval to collect information from these awardees.

Information collection will be conducted primarily via an electronic management information system (MIS) which will enable the accurate, reliable, uniform and timely submission to CDC of each awardee's work plans and progress reports, including objectives and milestones. The electronic MIS will also generate a variety of routine and customizable reports. Local level reports will allow each awardee to summarize its activities and progress towards meeting work plan objectives. CDC will use the information collected in the MIS to monitor each awardee's progress and to identify its strengths and weaknesses. Monitoring allows CDC to determine whether an awardee is meeting performance goals and to make adjustments in the type and level of technical assistance provided to them to support attainment of their objectives. CDC's monitoring and evaluation activities also allow CDC to provide oversight of the use of federal funds, and to identify and disseminate information about successful prevention and control strategies implemented by awardees. Finally, the information collection will allow CDC to monitor the increased emphasis on partnerships and programmatic collaboration, and is expected to reduce duplication of effort, enhance program impact and maximize the use of federal funds. The estimated burden of initial population of the MIS is 15 hours per awardee. Thereafter, the estimated burden of producing each semi-annual report is 3 hours.

Due to substantial interest in the new DCH programs from a variety of stakeholders, CDC may also seek OMB approval to conduct targeted, special-purpose information collections on an as-needed basis. CDC estimates that each DCH awardee could be asked to participate in one special purpose information collection per year. Methods for these data collections could include telephone interviews, in-person interviews, Web-based surveys, or paper-and-pencil surveys. Each special-purpose information collection request will be submitted to OMB for approval through the Change Request mechanism, and will include the data collection instrument(s) and a description of purpose and methods.

OMB approval is requested for three years. Participation in semi-annual progress reporting is required for cooperative agreement awardees, but could be voluntary for some special-purpose data collections. There are no costs to respondents other than their time.

Estimated Annualized Burden Hours
Type of respondents | Form name | Number of respondents | Number of responses per respondent | Average burden per response (in hours) | Total burden (in hours)
DCH Program Awardees (state, local and tribal government sector) | DCH MIS: Initial population | 19 | 1 | 15 | 285
| DCH MIS: Semi-annual reporting | 57 | 2 | 3 | 342
| Special Data Request | 19 | 1 | 17 | 323
DCH Program Awardees (private sector) | DCH MIS: Initial population | 17 | 1 | 15 | 255
| DCH MIS: Semi-annual reporting | 51 | 2 | 3 | 306
| Special Data Request | 17 | 1 | 17 | 289
Total |  |  |  |  | 1,800

Leroy Richardson,
Chief, Information Collection Review Office, Office of Scientific Integrity, Office of the Associate Director for Science, Office of the Director, Centers for Disease Control and Prevention.

[FR Doc. 2014-16840 Filed 7-16-14; 8:45 am]

BILLING CODE 4163-18-P